DEPARTMENT OF COMMERCE

International Trade Administration

[A-570-831]

Fresh Garlic From the People's Republic of China: Notice of Extension of Time Limit for the Final Results of Antidumping Duty New Shipper Review

AGENCY: Import Administration, International Trade Administration, Department of Commerce.

ACTION: Notice of extension of time limit for the final results of antidumping duty new shipper review.

SUMMARY: The Department of Commerce is extending the time limit for the final results of the new shipper review of the antidumping duty order on fresh garlic from the People's Republic of China until no later than November 26, 2002. The new shipper review covers one exporter, Jinan Yipin Corporation Ltd.¹ The period of review is November 1, 2000, through October 31, 2001. This extension is made pursuant to section 751(a)(2)(B)(iv) of the Tariff Act of 1930, as amended.

¹ We were also conducting a new shipper review of the antidumping order on fresh garlic from the People's Republic of China for Shandong Heze International Trade and Developing Company (Shandong Heze). On October 22, 2002, we issued a notice rescinding that new shipper review.

EFFECTIVE DATE: October 28, 2002.

FOR FURTHER INFORMATION CONTACT: Jennifer Moats, AD/CVD Enforcement 3, Import Administration, International Trade Administration, U.S. Department of Commerce, 14th Street and Constitution Avenue, NW., Washington, DC 20230; telephone: (202) 482-5047.

The Applicable Statute and Regulations

Unless otherwise indicated, all citations to the statute are references to the provisions effective January 1, 1995, the effective date of the amendments made to the Tariff Act of 1930 (the Act) by the Uruguay Round Agreements Act and all citations to the Department of Commerce's (the Department's) regulations are to 19 CFR part 351 (2002).

Background

On July 24, 2002, the Department issued the preliminary results of the new shipper review of the antidumping duty order on fresh garlic from the People's Republic of China. See Fresh Garlic from the People's Republic of China: Notice of Preliminary Results of Antidumping Duty New Shipper Review and Intent to Rescind in Part, 67 FR 49669 (July 31, 2002). We invited parties to comment on our preliminary results. We received comments from the petitioners and the new shipper, Jinan Yipin Corporation, Ltd. The final results for this review are currently due October 22, 2002.

Extension of Time Limit for Final Results of New Shipper Review

Section 751(a)(1)(B)(iv) of the Act provides that the Department will issue the final results of a new shipper review within 90 days after the date on which the preliminary results were issued. If the Department determines that a new shipper review is extraordinarily complicated, however, section 751(a)(1)(B)(iv) of the Act allows the Department to extend the deadline for the final results to up to 150 days after the date on which the preliminary results of the new shipper review were issued. The Department has determined that this case is extraordinarily complicated, and the final results of this new shipper review cannot be completed within 90 days from the date on which the preliminary results were issued. The Department finds that this new shipper review is extraordinarily complicated because the comments we received present a number of complex factual and legal questions about the assignment of antidumping duty margins.

Therefore, in accordance with section 751(a)(1)(B)(iv) of the Act and 19 CFR 351.214(i)(3), the Department is extending the time limit for the completion of the final results by thirty-five days. The final results will be due no later than November 26, 2002.

Dated: October 22, 2002.
Richard W. Moreland,
Deputy Assistant Secretary for AD/CVD Enforcement I.

[FR Doc. 02-27396 Filed 10-25-02; 8:45 am]

BILLING CODE 3510-DS-P